DEPARTMENT OF THE INTERIOR

National Park Service

Notice of Intent to Repatriate a Cultural Item: Field Museum of Natural History, Chicago, IL

AGENCY: National Park Service, Interior.

ACTION: Notice.

Notice is here given in accordance with the Native American Graves Protection and Repatriation Act (NAGPRA), 25 U.S.C. 3005, of the intent to repatriate a cultural item in the possession of the Field Museum of Natural History, Chicago, IL, that meets the definition of “sacred object” under 25 U.S.C. 3001.

This notice is published as part of the National Park Service's administrative responsibilities under NAGPRA, 25 U.S.C. 3003 (d)(3). The determinations in this notice are the sole responsibility of the museum, institution, or Federal agency that has control of the cultural item. The National Park Service is not responsible for the determinations in this notice.

The one cultural item is a pipe (FM 68555), which consists of a stem carved from wood, stained dark blue and measuring 24.2 x 1.8 inches. Upon one side of the stem is written in black ink, “Pipe of Paul Sawgonkwado - Cross Village Mich - Aug 1893.”

At an unknown date, Walter C. Wyman acquired the pipe under unknown circumstances. The museum purchased the pipe from Mr. Wyman in December of 1900. The museum accessioned the pipe into its collection that same year.

Museum records indicate that the pipe is “Ottawa” and that it was acquired in Cross Village, MI. The cultural affiliation of the pipe is Little Traverse Bay Bands of Odawa Indians as indicated by museum records and by consultation evidence presented by the Little Traverse Bay Bands of Odawa Indians, Michigan.

During consultation, Little Traverse Bay Bands of Odawa Indians traditional religious leaders presented evidence that the pipe is needed for the practice of a traditional Native American religion.

Officials of the Field Museum of Natural History have determined that, pursuant to 25 U.S.C. 3001 (3)(C), the cultural item described above is a specific ceremonial object needed by traditional Native American religious leaders for the practice of traditional Native American religions by their present-day adherents. Officials of the Field Museum of Natural History also have determined that, pursuant to 25 U.S.C. 3001 (2), there is a relationship of shared group identity that can be reasonably traced between the sacred object and the Little Traverse Bay Bands of Odawa Indians, Michigan. Lastly, officials of the Field Museum of Natural History have determined that, pursuant to 25 U.S.C. 3001 (13), the museum has right of possession of the pipe, but has decided to waive that right.

Representatives of any other Indian tribe that believes itself to be culturally affiliated with the sacred object should contact Jonathan Haas, MacArthur Curator of North American Anthropology, Field Museum of Natural History, 1400 South Lake Shore Drive, Chicago, IL 60605, telephone (312) 665-7829, before August 7, 2006. Repatriation of the sacred object to the Little Traverse Bay Bands of Odawa Indians, Michigan may proceed after that date if no additional claimants come forward.

The Field Museum of Natural History is responsible for notifying the Grand Traverse Band of Ottawa and Chippewa Indians, Michigan; Little River Band of Ottawa Indians, Michigan; and Little Traverse Bay Bands of Odawa Indians, Michigan that this notice has been published.

Dated: May 19, 2006.
Sherry Hutt,
Manager, National NAGPRA Program.

[FR Doc. E6-10510 Filed 7-5-06; 8:45 am]

BILLING CODE 4312-50-S